DEPARTMENT OF HOMELAND SECURITY

Coast Guard

33 CFR Part 117

[USCG-2008-0969]

Drawbridge Operation Regulation; Saugus River, MA, Maintenance

AGENCY: Coast Guard, DHS.

ACTION: Notice of temporary deviation from regulations.

SUMMARY: The Commander, First Coast Guard District, has issued a temporary deviation from the regulation governing the operation of the Fox Hill (SR107) Bridge across the Saugus River at mile 2.5, between Lynn and Saugus, Massachusetts. Under this temporary deviation the bridge may open on a limited operating schedule for several months to facilitate the reliability of the bridge until it can be repaired during the winter months.

DATES: This deviation is effective from October 15, 2008 through December 15, 2008.

ADDRESSES: Documents indicated in this preamble as being available in the docket are part of docket USCG-2008-0969 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts, 02110, between 7 a.m. and 3 p.m., Monday through Friday, except Federal holidays.

FOR FURTHER INFORMATION CONTACT: If you have questions about the rule, call John McDonald, Project Officer, First Coast Guard District, at (617) 223-8364. If you have questions on viewing the docket, call Renee V. Wright, Program Manager, Docket Operations, telephone 202-366-9826.

SUPPLEMENTARY INFORMATION: The Fox Hill (SR107) Bridge has a vertical clearance in the closed position of 6 feet at mean high water and 16 feet at mean low water. The existing drawbridge operation regulations are listed at 33 CFR 117.618(c).

The Massachusetts Highway Department (MHD) requested a temporary deviation to help insure the safe reliable operation of the bridge until major repairs can be implemented during the winter months when the waterway has little activity.

The waterway has seasonal recreational vessels and commercial lobster fishing vessels of various sizes.

A meeting between the Coast Guard, the owner of the bridge (MHD), and the commercial lobster fleet was held on September 10, 2008. The owner of the bridge presented engineering evidence of the poor condition of the bridge and the need to perform major bridge repairs during the winter months. It was concluded that in order to keep the bridge operating safely and reliably until the major repairs can commence the number of bridge openings must be reduced to save wear and tear on the mechanical components. This temporary deviation is therefore necessary in order to insure that the bridge continues to operate in a safe reliable manner until the major repairs can be made. No objection to the proposed temporary deviation schedule was voiced by interested parties.

Therefore, under this temporary deviation, in effect from October 15, 2008 through December 15, 2008, the Fox Hill (SR107) Bridge shall open on signal on the hour and half hour only between 5 a.m. and 7 p.m.

From 7 p.m. to 5 a.m. the draw shall open on signal if at least a one-hour advance notice is given by calling the number posted at the bridge.

In accordance with 33 CFR 117.35(e), the bridge must return to its regular operating schedule immediately at the end of the designated time period. This deviation from the operating regulations is authorized under 33 CFR 117.35.

Dated: October 2, 2008.
Gary Kassof,
Bridge Program Manager, First Coast Guard District.

[FR Doc. E8-24520 Filed 10-14-08; 8:45 am]

BILLING CODE 4910-15-P